EXECUTIVE OFFICE OF THE PRESIDENT

Council on Environmental Quality

Guidelines for Ensuring and Maximizing the Quality, Objectivity, Utility, and Integrity of Information

AGENCY: Council on Environmental Quality, Executive Office of the President.

ACTION: Notice of availability of final guidelines.

SUMMARY: This notice announces the availability of final guidelines. These guidelines implement Section 515 of the Treasury and General Government Appropriations Act for Fiscal Year 2002 (Pub. L. 106-554; H.R. 5658). Section 515 directs the Office of Management and Budget (OMB) to issue government-wide guidelines, followed by individual agency guidelines, to ensure and maximize the quality, objectivity, utility, and integrity of information, including statistical information, disseminated by the agency and to establish administrative mechanisms allowing affected persons to seek and obtain correction of information maintained and disseminated by the agency that does not comply with such guidelines. Each agency must also report periodically to the OMB director on the number, nature, and resolution of complaints received by the agency in regards to these requirements.

The Council on Environmental Quality (CEQ) has promulgated guidelines implementing these requirements. They are available at CEQ's offices at 722 Jackson Place, NW., Washington, DC 20503, and at the CEQ web site at http://www.whitehouse.gov/ceq. The final guidelines are intended to comply with both the statutory requirements noted above and the final guidelines published by OMB on February 22, 2002 (67 FR 36, 8452).

DATES: Effective October 18, 2002.

FOR FURTHER INFORMATION CONTACT: Dinah Bear, General Counsel, Council on Environmental Quality. Telephone: (202) 395-7421 or by e-mail to dinah_bear@ceq.eop.gov.

Dated: October 18, 2002.
James L. Connaughton,
Chairman, Council on Environmental Quality.

[FR Doc. 02-27066 Filed 10-23-02; 8:45 am]

BILLING CODE 3125-01-M